DEPARTMENT OF LABOR

Employment and Training Administration

[TA-W-63,448]

Prestolite Wire LLC, Including On-Site Leased Workers From Talent Tree, Tifton, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 10, 2008, applicable to workers of Prestolite Wire LLC, including on-site leased workers of Talent Tree, Tifton, Georgia. The notice was published in the Federal Register on June 27, 2008 (73 FR 36575).

At the request of the State agency, the Department reviewed the certification for workers of the subject firm. The workers were engaged in the production of automotive ignition wire assemblies.

Findings show that there was a previous certification, TA-W-59,531, issued on July 13, 2006, for the workers of Prestolite Wire LLC, Tifton, Georgia. That certification expired on July 13, 2008. To avoid an overlap in worker group coverage for the workers of the Tifton, Georgia location, the certification is being amended to change the impact date from May 29, 2007 to July 14, 2008.

Accordingly, the Department is amending the certification to properly reflect this matter.

The intent of the Department's certification is to include all workers of Prestolite Wire LLC who were adversely affected by a shift in production of automotive ignition wire assemblies to Mexico.

The amended notice applicable to TA-W-63,448 is hereby issued as follows:

All workers of Prestolite Wire LLC, including on-site leased workers from Talent Tree, Tifton, Georgia, who became totally or partially separated from employment on or after July 14, 2008, through June 10, 2010, are eligible to apply for adjustment assistance under Section 223 of the Trade Act of 1974, and are also eligible to apply for alternative trade adjustment assistance under Section 246 of the Trade Act of 1974.

Signed at Washington, DC, this 28th day of August 2008.
Elliott S. Kushner,
Certifying Officer, Division of Trade Adjustment Assistance.

[FR Doc. E8-20690 Filed 9-5-08; 8:45 am]

BILLING CODE 4510-FN-P